DEPARTMENT OF COMMERCE

National Oceanic and Atmospheric Administration

RIN 0648-XZ28

Revision to Management Measures for the Subsistence Taking of Northern Fur Seals on St. Paul Island, Alaska

AGENCY: National Marine Fisheries Service (NMFS), National Oceanic and Atmospheric Administration (NOAA), Commerce.

ACTION: Notice; intent to prepare a Supplemental Environmental Impact Statement (SEIS).

SUMMARY: NMFS announces its intent to prepare an SEIS in accordance with the National Environmental Policy Act of 1969. The SEIS will evaluate alternatives which include petitioned changes to the regulations governing management of the northern fur seal subsistence harvest on St. Paul Island, Alaska. The SEIS will supplement the 2005 Final Environmental Impact Statement for Setting the Annual Subsistence Harvest of Northern Fur Seals on the Pribilof Islands. NMFS intends to prepare an SEIS because the petitioned action would make substantial changes to the action analyzed in the 2005 EIS that are relevant to environmental effects.

DATES: Written comments must be received by 5 p.m. Alaska Standard Time, August 24, 2015.

ADDRESSES: You may submit comments on this document, identified by FDMS Docket Number NOAA-NMFS-2015-0073, by either of the following methods:

Electronic Submission: Submit all electronic public comments via the Federal e-Rulemaking Portal. Go to www.regulations.gov/#!docketDetail;D=NOAA-NMFS-2015-0073, Click the “Comment Now!” icon, complete the required fields, and enter or attach your comments.

Mail: Submit written comments to Jon Kurland, Assistant Regional Administrator for Protected Resources, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous). Attachments to electronic comments will be accepted in Microsoft Word, Excel, or Adobe PDF file formats only.

Electronic copies of the 2005 Final Environmental Impact Statement for Setting the Annual Subsistence Harvest of Northern Fur Seals on the Pribilof Islands, St. Paul Tribal Resolutions, and other relevant documents are available at: http://alaskafisheries.noaa.gov/protectedresources/seals/fur.htm.

FOR FURTHER INFORMATION CONTACT: Michael Williams, Protected Resources Division, NMFS Alaska Region, (907) 271-5117.

SUPPLEMENTARY INFORMATION: The subsistence harvest of the eastern Pacific stock of northern fur seals (Callorhinus ursinus) on the Pribilof Islands is governed by regulations at 50 CFR 216.71-.74 established under the Fur Seal Act (FSA) (16 U.S.C. 1511 et seq.) and Marine Mammal Protection Act (MMPA) (16 U.S.C. 1361 et seq.). NMFS manages the harvest of northern fur seals under regulations that impose a variety of restrictions to meet the subsistence needs of Pribilovians while ensuring sustainable harvests. The existing regulations (1) establish a 47-day period between June 23 and August 8 of each year, during which fur seals may be taken for subsistence purposes; (2) limit the harvest of sub-adult male fur seals to those 124.5 cm or less in length; (3) identify specific hauling grounds from which fur seals may be taken, and provide that no hauling ground on St. Paul may be harvested more than once per week; (4) require that NMFS receive adequate advance notice of scheduled harvest activities to enable NMFS to monitor the harvest; and (5) require NMFS to publish triennially a summary of the harvest during the preceding three years and the estimated subsistence needs for the next three years (71 FR 8222, February 16, 2006; 73 FR 49616, August 22, 2008; 77 FR 6682, February 9, 2012).

The harvest regulations at 50 CFR 216.72(c)(2) additionally state “No fur seal may be taken except by experienced sealers using the traditional harvesting methods, including stunning followed immediately by exsanguination. The harvesting method shall include organized drives of sub-adult males to killing fields unless it is determined by the NMFS representatives, in consultation with the Pribilovians conducting the harvest that alternative methods will not result in increased disturbance to the rookery or the increased accidental take of female seals.”

On February 16, 2007, the Aleut Community of St. Paul Island, Tribal Government (ACSPI) submitted a petition for rulemaking requesting NMFS revise regulations governing the subsistence take of northern fur seals on St. Paul. NMFS published the notice of receipt of petition in the Federal Register with a 60-day public comment period (77 FR 41168, July 12, 2012). NMFS received comment letters from the Marine Mammal Commission (MMC), Humane Society of the United States, Center for Biological Diversity, Alaskan Wildlife Federation, and two individuals. On November 10, 2014 and April 29, 2015, ACSPI submitted letters to NMFS (see ADDRESSES) to revise its petition based on the public comments and subsequent discussions during the semi-annual St. Paul Island Co-Management Council meetings.

St. Paul Island

St. Paul Island is a remote island located in the Bering Sea. St. Paul Island residents have a need for long-term sustainable use of northern fur seals for subsistence purposes of cultural continuity, food, clothing, arts, and crafts. Alaska Natives from St. Paul Island have a long history of harvesting fur seals for subsistence purposes prior to the United States' purchase of Alaska in 1867. Prior to the U.S. purchase of Alaska, the Aleuts harvested northern fur seal young of the year (pups); U.S. records of these subsistence harvests of pups indicate thousands were harvested annually during the late 1800s and were viewed by Aleuts as one of their most valued food sources. In the late 1800s, the fur seal population had declined due to the international pelagic harvests which killed mainly females on their summer foraging trips; therefore, the U.S. government asked the Aleuts of the Pribilof Islands to stop harvesting young of the year. The northern fur seal population recovered by the mid-1960s, but the pup harvest was never resumed.

The subsistence way of life has remained an important, consistent, and supporting factor in the personal, economic, and traditional character of ACSPI. A continued subsistence harvest preserves traditional skills, provides a culturally identifiable food source for Alaska Native residents, and enables the passing of cultural values to the next generation. The ACSPI petitioned NMFS on behalf of its tribal members to change the current subsistence harvest regulations to include the harvest of pups, which were an important traditional food source.

Proposed Action

Based on the petition and subsequent revisions from the ACSPI, NMFS is evaluating a proposed action to use both harvester and scientific experience to improve northern fur seal subsistence harvest opportunities and refine existing regulatory measures to conserve the northern fur seal population on St. Paul Island. The 2005 EIS analyzed setting the annual fur seal subsistence harvest take ranges for St. George Island and St. Paul Island. NMFS intends to prepare an SEIS because the proposed action would make substantial changes to the action analyzed in the 2005 EIS that are relevant to environmental effects.

If NMFS determines that changes to the existing regulations for subsistence harvest on St. Paul Island are appropriate, NMFS will issue a proposed rule. Via the same rulemaking, or possibly a separate rulemaking, NMFS may propose certain changes to the subsistence harvest regulations for St. George Island (50 CFR 216.72) that were analyzed in the August 2014 Final Supplemental Environmental Impact Statement for the Management of the Subsistence Harvest of Northern Fur Seals on St. George Island, but not implemented in the associated final rule NMFS published in 2014 (79 FR 65327; November 4, 2014).

Purpose and Need

The purpose of the proposed action is to manage the subsistence harvest of fur seals on St. Paul Island. NMFS action in response to the petition from ACSPI is needed to fulfill Federal trust responsibilities under the MMPA and FSA to conserve the northern fur seal population and co-manage the subsistence harvest with ACSPI. In addition, NMFS trust responsibilities include recognizing the subsistence needs of Alaskan Natives on St. Paul Island to the fullest extent possible consistent with applicable law.

Proposed Alternatives

The proposed alternatives only apply to northern fur seal subsistence harvests on St. Paul Island, Alaska. NMFS is currently considering three alternatives for evaluation in the SEIS: Alternative 1 is the No Action Alternative; Alternative 2 (Petitioned Alternative) would modify the management to allow for a regulated harvest of northern fur seals to meet the subsistence needs as described in the petition from ACSPI; and Alternative 3 would incorporate aspects of Alternative 2 as modified with measures recommended from public comments received in response to the notice of receipt of the 2007 ACSPI petition (77 FR 41168; July 12, 2012).

Alternative 1, the no action alternative, would maintain the current subsistence harvest range on St. Paul Island from 1,645 to 2,000 northern fur seals. Federal regulations at 50 CFR 216.72 restrict subsistence harvests of fur seals to a 47-day season between June 23 and August 8 of each year. This alternative continues the harvest under the regulatory process used to establish harvest take levels every three years, and a set of restrictions that have been in place since 1993. The restrictions include prohibitions on any taking of adult fur seals or pups, intentional taking of sub-adult females, and taking sub-adult males larger than 124.5 cm long. The restrictions identify specific harvest locations and harvest frequency once per week per harvest site.

This alternative requires NMFS to publish in the Federal Register a summary of the number of seals taken during the prior 3-year period and expected to be taken annually over the next 3-year period to meet local subsistence needs. This information is used to set lower and upper take ranges for the number of seals that can be harvested annually. Following a 30-day public comment period, a final notification of the take ranges for the subsequent 3-year period is reported. Under this alternative, NMFS would maintain the regulations suspending, but not terminating, the harvest when the lower end of the harvest range is reached (1,645 fur seals). NMFS can lift this suspension, if after a review of the harvest data, it determines that the community's subsistence needs have not been met. NMFS is then required to publish a revised estimate of the number of seals needed to meet the community's subsistence need up to the upper end of the range (2,000 fur seals). NMFS is also required to suspend the harvest if it determines that the subsistence needs of the community have been satisfied, or if the harvest is being conducted in a wasteful manner.

Alternative 2, the petitioned action, would implement a regulated harvest of northern fur seals to meet the subsistence needs as described in the November 10, 2014, revised petition and subsequent clarifications from the ACSPI. ACSPI proposed on April 29, 2015, that the St. Paul Island Co-Management Council set seasonal limits, age class limits, or some combination of season and age limits not to exceed a total harvest of 2,000 male fur seals annually. The Co-Management Council is a body established via an agreement between NMFS and ACSPI under section 119 of the MMPA to oversee subsistence harvest of northern fur seals and Steller sea lions on St. Paul Island, and comprises NMFS and ACSPI representatives.

Alternative 2 includes the following provisions: (1) Lethally take up to 2,000 male fur seals annually; (2) if and when 20 female fur seals (1% of the harvest quota) have been accidentally killed, terminate all fur seal taking for the rest of the year; (3) within the overall limit of no more than 2,000 fur seals, take juvenile male fur seals by hunting with firearms from January 1 to May 31 annually and take by harvest (roundup, stunning, and exsanguination) male pups and juvenile male fur seals from June 23 to December 31 annually; (4) implement a subsistence harvest review process to be overseen by the Co-Management Council to develop harvest monitoring and allocation plans intended to minimize sub-lethal effects to seals not harvested, maximize detection and avoidance of females, prevent wasteful taking, and make in-season allocations among the age groups and locations to be harvested. The total harvest level under Alternative 2 would be the same as the currently authorized upper end of the harvest range for St. Paul established for the 2014-2016 seasons (79 FR 45728; August 6, 2014). In addition, the harvest would be suspended for two days if and when 5 females have been accidentally killed, which would allow time for ACSPI to determine in consultation with NMFS what measures can be taken to detect and reduce additional mortality of females.

Under Alternative 2, a pup would be defined as a fur seal in the first year of its life and a juvenile would be defined as any animal that is older than a pup but too young to reproduce (up to seven years old). The current regulation uses the term sub-adult which is in reference to seals aged two to five years old or less than 124.5 cm long. The prohibition on taking animals greater than 124.5 cm in length would be eliminated to allow hunting larger fur seals from January 1 to May 31, most of which would be shot in the water similar to the manner in which Alaska Natives on St. Paul hunt for Steller sea lions during this same time period. The regulations suspending the harvest when the lower end of the harvest range is reached (1,645 fur seals) would be eliminated. Additionally, all fur seal pups to be harvested between June 23 and December 31 would be sexed before harvesting to ensure that female pups are detected and not killed. The location restrictions would be changed to allow harvest round-ups to originate in the rookeries and hauling grounds.

Alternative 3 would incorporate recommendations described in the August 24, 2012 letter from the MMC and other members of the public (see ADDRESSES) into Alternative 2. Specifically, Alternative 3 would include the MMC's recommendations concerning monitoring of the harvest to ensure no wasteful taking occurs, disturbance at haulouts and taking of females is minimized, and use of firearms to harvest fur seals is prohibited.

Thus Alternative 3 would: (1) Allow 342 days of harvest, split into two seasons: January 1 to May 31, and June 23 to December 31; (2) from June 23 to December 31 limit the harvest of up to 1,500 male pups; (3) allow up to 500 juvenile males to be harvested during either season; and (4) include a new prohibition to terminate the harvest for the year if and when 20 female fur seals have been killed. Unlike Alternative 2, Alternative 3 would specifically prohibit any use of firearms such that juvenile and pup fur seals would be harvested using the current method of roundup, stunning, and exsanguination.

Alternative 3 would maintain the current subsistence harvest range on St. Paul Island from 1,645 to 2,000 northern fur seals, and the existing suspension provisions. Alternative 3 would define fur seal life stages to be harvested in the same fashion as Alternative 2. Based on public comments this alternative would include criteria to determine if taking during the subsistence harvest is occurring in a wasteful manner. Additionally, all fur seal pups to be harvested from June 23 to December 31 would be sexed before harvesting to ensure that female pups are detected and not killed. This alternative would include provisions for ACSPI and NMFS to jointly develop harvest monitoring plans within the co-management structure intended to minimize sub-lethal effects to seals not harvested, maximize detection and avoidance of females, and prevent wasteful taking.

Public Involvement

Scoping is an early and open process for determining the scope of issues, alternatives, and impacts to be addressed in an EIS, and for identifying the significant issues related to the proposed action. A principal objective of the scoping and public involvement process is to identify a range of reasonable management alternatives that, with adequate analysis, will delineate critical issues and provide a clear basis for distinguishing among those alternatives and selecting a preferred alternative. NMFS began informal scoping for this issue in 2007 when it received the petition from the ACSPI proposing changes in harvest regulations to better meet the community's subsistence need.

NMFS is seeking written public comments on the scope of issues, potential impacts, and alternatives that should be considered for the fur seal harvest regulations. NMFS is also seeking public comments regarding whether the SEIS should evaluate additional alternatives, such as different levels of age-specific harvests and harvest termination thresholds to manage the subsistence removals of fur seals on St. Paul Island. Written comments will be accepted at the address above (see ADDRESSES). Written comments should be as specific as possible to be the most helpful. NMFS will incorporate scoping comments received into the Draft SEIS.

Dated: July 21, 2015.
Donna S. Wieting,
Director, Office of Protected Resources, National Marine Fisheries Service.

[FR Doc. 2015-18176 Filed 7-23-15; 8:45 am]

BILLING CODE 3510-22-P